DEPARTMENT OF COMMERCE

National Oceanic and Atmospheric Administration

[I.D. 101806C]

Gulf of Mexico Fishery Management Council; Public Meetings

AGENCY: National Marine Fisheries Service (NMFS), National Oceanic and Atmospheric Administration (NOAA), Commerce.

ACTION: Notice of a public meeting.

SUMMARY: The Gulf of Mexico Fishery Management Council (Council) will convene its Standing Scientific and Statistical Committee (SSC).

DATES: The meeting will begin at 8 a.m. on Wednesday, November 8, 2006 and conclude by 4 p.m.

ADDRESSES: The meeting will be held at the Quorum Hotel, 700 North Westshore Boulevard, Tampa, FL 33607.

Council address: Gulf of Mexico Fishery Management Council, 2203 N. Lois Avenue, Suite 1100, Tampa, FL 33607.

FOR FURTHER INFORMATION CONTACT: Wayne Swingle, Executive Director, Gulf of Mexico Fishery Management Council; telephone: (813) 348-1630.

SUPPLEMENTARY INFORMATION: The Council will convene the Standing SSC to address the Marine Recreational Fishing Statistic Survey (MRFSS) with emphasis on its reliability and uses. This review will include recommendations of the National Research Council (NRC) study of the MRFSS, its use in state administered programs, NOAA response to the NRC recommendations, and NOAA planned redesign of some of the survey methodology. The SSC will develop its recommendations to the Council on these issues.

The SSC will address issues and SSC operation procedures related to use of the Southeast Data, Assessment and Review (SEDAR) process. The administrator of the SEDAR program will brief the SSC on the operational procedures of the program, responding to the SSC's questions on the process.

The SSC will review the current SEDAR databases on goliath grouper and the recommendations of the NMFS Southeast Fisheries Science Center personnel on whether the current database is adequate to develop a benchmark assessment of the status of the goliath grouper stock. The SSC will develop their recommendations to the Council.

A copy of the agenda and related materials can be obtained by calling the Council office at (813) 348-1630.

Although other non-emergency issues not on the agendas may come before the Standing SSC, in accordance with the Magnuson-Stevens Fishery Conservation and Management Act (Magnuson-Stevens Act), those issues may not be the subject of formal action during this meeting. Actions of the Standing SSC will be restricted to those issues specifically identified in the agendas and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Tina Trezza at the Council (see ADDRESSES) at least 5 working days prior to the meeting.

Dated: October 18, 2006.
Tracey L. Thompson,
Acting Director, Office of Sustainable Fisheries, National Marine Fisheries Service.

[FR Doc. E6-17687 Filed 10-20-06; 8:45 am]

BILLING CODE 3510-22-S